ENVIRONMENTAL PROTECTION AGENCY

[FRL-7167-7]

EPA Science Advisory Board; Notification of Public Advisory Committee Meeting

Pursuant to the Federal Advisory Committee Act, Public Law 92-463, notice is hereby given that the Environmental Engineering Committee (EEC, Committee) of the US EPA Science Advisory Board (SAB) will meet via public teleconference on the date and time noted below. All times noted are Eastern Time. This meeting is open to the public, however, seating is limited and available on a first come basis. Important Notice: Documents that are the subject of SAB reviews are normally available from the originating EPA office and are not available from the SAB Office—information concerning availability of documents from the relevant Program Office (if any) is included below. Subsequent teleconference meetings of the EEC are planned for July 3, 2002, September 4, 2002 and November 6, 2002. Information concerning these meetings will appear in future Federal Register notices.

1. Environmental Engineering Committee (EEC)—May 1, 2002

The Environmental Engineering Committee (EEC, Committee) of the US EPA Science Advisory Board (SAB), will conduct a public teleconference meeting on May 1, 2002 hosted from Room 6528, USEPA, Ariel Rios Building North, 1200 Pennsylvania Avenue, NW, Washington, DC 20004. The meeting will begin at 12:00 pm and adjourn no later than 2:00 pm. The public is encouraged to attend the meeting in the conference room noted above, however, the public may also attend through a telephonic link if lines are available. Additional instructions about how to participate in the conference call can be obtained by calling Ms. Mary Winston (see contact information below)

Purpose of the Meeting—The primary purpose of this meeting will be to review for approval a commentary prepared by the EEC's Risk Reduction Options Selection Subcommittee. The Committee reviewed the December 20, 1001 draft report of the Subcommittee at its January 30, 2002 conference call and agreed that the report would be revised to address the comments received. Those revisions are in progress and the Committee expects to have the commentary available for consideration at the May 1, 2002 conference call.

The Committee will also use the meeting to discuss the future of the EEC. To prepare for this, several members are preparing a paper on the future of the EEC to stimulate discussion at the May 1 conference call. This discussion will also address the Committee's FY2003 plans.

The Committee may also be briefed on issues of technical interest. For example, if schedules permit, there may be a briefing on nanotechnology addressing both the state of the Agency and the state of the science.

Availability of Review Materials: The draft commentary will be available at the SAB's website (www.epa.gov/sab) before April 24, 2002.

FOR FURTHER INFORMATION CONTACT: Any member of the public wishing further information concerning this teleconference meeting or who wishes to submit brief oral comments (3 minutes or less) must contact Ms. Kathleen White, Designated Federal Officer, EPA Science Advisory Board (1400A), U.S. Environmental Protection Agency, 1200 Pennsylvania Avenue, NW, Washington, DC 20460; telephone (202) 564-4559; fax (202) 501-0582; or via e-mail at white.kathleen@epa.gov. Requests for oral comments must be in writing (e-mail, fax or mail) and received by Ms. White no later than noon Eastern Time April 24, 2002. An agenda or information on participation in the above teleconference meeting may be obtained from Ms. Mary Winston, Management Assistant, EPA Science Advisory Board (1400A), U.S. Environmental Protection Agency, 1200 Pennsylvania Avenue, NW, Washington, DC 20460; telephone: (202) 564-4538, FAX (202) 501-0582; or via e-mail at winston.mary@epa.gov.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of ten minutes (unless otherwise indicated). For teleconference meetings, opportunities for oral comment will usually be limited to no more than three minutes per speaker and no more than fifteen minutes total. Deadlines for getting on the public speaker list for a meeting are given above. Speakers should bring at least 35 copies of their comments and presentation slides for distribution to the reviewers and public at the meeting. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend the meeting are also asked to bring 25 copies of their comments for public distribution.

General Information—Additional information concerning the EPA Science Advisory Board, its structure, function, and composition, may be found on the SAB Website (http://www.epa.gov/sab) and in The FY2000 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Ms. White at least five business days prior to the meeting so that appropriate arrangements can be made.

Dated: March 26, 2002.
Donald G. Barnes,
Staff Director, EPA Science Advisory Board.

[FR Doc. 02-8064 Filed 4-2-02; 8:45 am]

BILLING CODE 6560-50-P